FEDERAL COMMUNICATIONS COMMISSION

Sunshine Act Meeting; Open Commission Meeting; Thursday, January 17, 2008

DATES: January 10, 2008.

The Federal Communications Commission will hold an Open Meeting on the subjects listed below on Thursday, January 17, 2008, which is scheduled to commence at 9:30 a.m. in Room TW-C305, at 445 12th Street, SW., Washington, DC. The Meeting will focus on presentations by senior agency officials regarding implementations of the agency's strategic plan and a comprehensive review of FCC policies and procedures.

Presentations will be made in four panels:

• Panel One will feature the Managing Director and the Chief of the Wireline Competition Bureau.

• Panel Two will feature the Chiefs of the Media Bureau and the Consumer and Governmental Affairs Bureau.

• Panel Three will feature the Chiefs of the Public Safety and Homeland Security Bureau, Wireless Telecommunications Bureau, and the Office of Engineering and Technology.

• Panel Four will feature the Chiefs of the International Bureau and the Enforcement Bureau.

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Federal Communications Commission.
Marlene H. Dortch,
Secretary.

[FR Doc. 08-151 Filed 1-14-08; 12:23 pm]

BILLING CODE 6712-01-P